DEPARTMENT OF JUSTICE

Notice of Lodging of Stipulated Order for Preliminary Relief Under the Clean Water Act

Notice is hereby given that on January 15, 2009, the United States Department of Justice, on behalf of the U.S. Environmental Protection Agency (“EPA”) and the People of the State of California ex. rel. California State Water Resources Control Board and California Regional Water Quality Control Board, San Francisco Region (the “State”), lodged with the United States District Court for the Northern District of California a stipulated order for preliminary relief with defendant East Bay Municipal Utility District (“EBMUD”) in the case of United States et al. v. East Bay Municipal Utility District (cv-09-0186). On the same day, the United States and the State filed a Complaint pursuant to the federal Clean Water Act, 33 U.S.C. 1319 and California Water Code Sections 13376, 13385 and 13386. Under the stipulated order, EBMUD shall perform various studies and take a number of interim steps aimed at the ultimate cessation of discharges from its three wet weather facilities. These facilities discharge partially treated sewage into the San Francisco Bay when wet weather flows exceed the capacity of EBMUD's treatment plant.

The Department of Justice will receive for a period of thirty (30) days from the date of this publication comments relating to the stipulated order. Comments should be addressed to the Assistant Attorney General, Environment and Natural Resources Division, and either e-mailed to pubcomment-ees.enrd@usdoj.gov or mailed to P.O. Box 7611, U.S. Department of Justice, Washington, DC 20044-7611, and should refer to the stipulated order between the United States, the State of California and EBMUD, DOJ Ref. No. 90-5-1-1-09361.

The proposed stipulated order may be examined at the office of the United States Attorney, 450 Golden Gate Ave., 11th Floor, San Francisco, CA 94102 and at EPA's office, 75 Hawthorne Street, San Francisco, CA 94105. During the public comment period, the Settlement Agreement may also be examined on the following Department of Justice Web site, http://www.usdoj.gov/enrd/Consent_Decrees.html. A copy of the Settlement Agreement may also be obtained by mail from the Consent Decree Library, P.O. Box 7611, U.S. Department of Justice, Washington, D.C. 20044-7611 or by faxing or e-mailing a request to Tonia Fleetwood (tonia.fleetwood@usdoj.gov), fax no. (202) 514-0097, phone confirmation number (202) 514-1547. In requesting a copy from the Consent Decree Library, please enclose a check in the amount of $11.50 (25 cents per page reproduction cost) payable to the U.S. Treasury or, if by email or fax, forward a check in that amount to the Consent Decree Library at the stated address.

Henry Friedman,
Assistant Section Chief Environmental Enforcement Section, Environment and Natural Resources Division.

[FR Doc. E9-1699 Filed 1-26-09; 8:45 am]

BILLING CODE 4410-15-P